DEPARTMENT OF TRANSPORTATION

Federal Railroad Administration

[Docket Number FRA-2016-0108]

Petition for Waiver of Compliance

Under part 211 of Title 49 Code of Federal Regulations (CFR), this document provides public notice that on April 26, 2017, the Union Pacific Railroad Company (UP) petitioned the Federal Railroad Administration (FRA) to modify an existing waiver of compliance from certain provisions of the Federal railroad safety regulations in 49 CFR part 236. FRA assigned the petition docket number FRA-2016-0108.

UP seeks a modification to its existing waiver from compliance with cab signal system requirements found in 49 CFR 236.566, Locomotive of each train operating in train stop, train control, or cab signal territory; equipped. Specifically, UP requests that FRA add more lines to the waiver. The lines listed in this request are those where UP will install and operate Positive Train Control (PTC) in lieu of automatic cab signal (ACS), Automatic Train Control (ATC), or Automatic Train Stop (ATS) to support its plan for PTC implementation. The list of the lines is in the table below:

Subdivision | Cab signal system | From MP | From station | To MP | To station
Blair | ATC | 326.2 | East Missouri Valley, IA | 329.5 | Missouri Valley, IA.
Boone | ATC | 202.2 | Boone, IA | 326.2 | East Missouri Valley, IA.
Clinton | ATC | 2.1 | Clinton, IA | 202.2 | Boone, IA.
Columbus | ACS | 39.2 | Fremont, NE | 144.5 | East Grand Island, NE.
Evanston | ACS | 817.3 | Green River, WY | 977.5 | Strawberry, UT.
Geneva | ATC | 0.8 | Halsted, IL | 138.9 | Clinton, IA.
Harvard | ATS | 0.9 | Erie, IL | 63.0 | Harvard, IL.
Hiawatha | ACS | 43.1 | Hiawatha, KS | 143.0 | Upland, KS.
Joliet | ACS | 72.8 | Dwight, IL | 92.5 | Pontiac, IL.
Kansas | ACS | 72.9 | Menoken, KS | 143.0 | Upland, KS.
Kearney | ACS | 144.5 | East Grand Island, NE | 282.0 | Platte River, NE.
Kenosha | ACS ¹ | 30.2 | Lake Bluff, IL | 52.8 | Hold Signal 53 (Kenosha), WI.
Kenosha | ATS | 2.7 | CY (Clybourn), IL | 52.8 | Hold Signal 53 (Kenosha), WI.
Laramie | ACS | 510.8 | Cheyenne, WY | 682.8 | Rawlins, WY.
Laramie | ACS | 519.1 | Borie, WY | C519.7 | West Speer, WY.
Marysville | ACS | 143.0 | Upland, KS | 146.7 | McLaughlin, KS.
Marysville | ACS | 149.0 | West Marysville, KS | 288.4 | Gibbon, NE.
North Platte Terminal | ACS | 282.0 | Platte River, NE | 283.4 | Bryan Ave., NE.
North Platte Terminal | ACS | 291.0 | Birdwood, NE | 291.9 | Hinman, NE.
Omaha | ATC | 329.1 | Missouri Valley, IA | 348.5 | North Council Bluffs, IA.
Omaha | ACS | 7.5 | Omaha 57th Street, NE | 39.2 | Fremont, NE.
Rawlins | ACS | 682.8 | Rawlins, WY | 815.1 | Green River, WY.
Sidney | ACS | 291.9 | Hinman, NE | 509.3 | Cheyenne, WY.
South Morrill | ACS | 300.4 | O'Fallons, NE | 157.0 | Pelton, NE.

In its original petition, UP noted its Positive Train Control Implementation Plan identifies its ultimate goal of supplanting cab signals with PTC technology. Justification for relief was provided in that petition, as well as in supplements to that petition added to the waiver docket. UP also indicated its intent to petition for relief on the balance of its cab signal territories, all of which are slated for the implementation of PTC.

The relief requested would only apply within the UP subdivisions listed on which a PTC system is installed and operative; the PTC system is successfully initialized; and a locomotive engineer trained and qualified in the operation of PTC is present for the operation of the train with ACS, ATC, or ATS cut out. The PTC system to be utilized is UP's implementation of the Interoperable Electronic Train Management System.

If the PTC system fails and/or is cut-out en route as a result of same, the train crew will cut-in the ACS, ATC, or ATS onboard system, perform a departure test, and if successful, continue the trip under ACS, ATC, or ATS operation. If the ACS, ATC, or ATS onboard system cut-in and/or departure tests are not completed successfully, the train will continue to operate under the provisions of 49 CFR 236.567, Restrictions imposed when device fails and/or is cut out en route.

UP notes that the ACS, ATC, or ATS and PTC systems are not integrated on the locomotive and its concurrent use would be potentially confusing and distracting to the train crew due to differences in the content of its displays, audible and visual alerts provided, and required acknowledgement protocols.

A copy of the petition, as well as any written communications concerning the petition, is available for review online at www.regulations.gov and in person at the Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 23, 2017 will be considered by FRA before final action is taken. Comments received after that date will be considered if practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-10643 Filed 5-23-17; 8:45 am]

BILLING CODE 4910-06-P